DEPARTMENT OF COMMERCE

International Trade Administration

(C-423-809)

Stainless Steel Plate in Coils from Belgium: Rescission of Countervailing Duty Administrative Review

AGENCY: Import Administration, International Trade Administration, Department of Commerce.

EFFECTIVE DATE: October 20, 2009.

FOR FURTHER INFORMATION CONTACT: Alexander Montoro or Mary Kolberg, at (202) 482-0238 or (202) 482-1785, respectively; AD/CVD Operations, Office 1, Import Administration, International Trade Administration, U.S. Department of Commerce, 14th Street and Constitution Avenue, NW, Washington, DC 20230.

SUPPLEMENTARY INFORMATION:

Background

On May 1, 2009, the Department of Commerce (“the Department”) published a notice announcing the opportunity to request an administrative review of the countervailing duty order on stainless steel plate in coils from Belgium. See Antidumping or Countervailing Duty Order, Finding, or Suspended Investigation; Opportunity To Request Administrative Review, 74 FR 20278 (May 1, 2009). On June 1, 2009, ArcelorMittal Stainless Belgium N.V. (“AMS Belgium”) timely requested an administrative review covering the period January 1, 2008, through December 31, 2008. In accordance with 19 CFR 351.221(c)(1)(i), the Department published a notice initiating an administrative review of the countervailing duty order on stainless steel plate in coils from Belgium. See Initiation of Antidumping and Countervailing Duty Administrative Reviews and Requests for Revocation in Part, 74 FR 30052 (June 24, 2009).

Rescission of Review

Pursuant to 19 CFR 351.213(d)(l), the Secretary will rescind an administrative review, in whole or in part, if the party that requested a review withdraws the request within 90 days of the date of publication of the notice of initiation of the requested review. On September 22, 2009, AMS Belgium withdrew its request for review within the 90-day period. Therefore, in response to AMS Belgium's withdrawal of its request for an administrative review, and as no other party requested a review, the Department is rescinding this administrative review of the countervailing duty order on stainless steel plate in coils from Belgium for the period January 1, 2008, through December 31, 2008.

Assessment

The Department will instruct U.S. Customs and Border Protection (“CBP”) to assess countervailing duties at the cash deposit rate in effect on the date of entry, for entries during the period January 1, 2008, through December 31, 2008. The Department intends to issue appropriate assessment instructions to CBP 15 days after the date of publication of this notice of rescission of administrative review. In addition, pursuant to an injunction issued in ArcelorMittal Stainless Belgium N.V. v. United States, CIT No. 08-00434, on January 16, 2009, the Department must continue to suspend liquidation of entries made by AMS Belgium pending a conclusive court decision in that action.

Notification Regarding Administrative Protective Order

This notice serves as a final reminder to parties subject to administrative protection orders (“APO”) of their responsibility concerning the disposition of proprietary information disclosed under APO in accordance with 19 CFR 351.305(a)(3). Timely written notification of the return/destruction of APO materials or conversion to judicial protective order is hereby requested. Failure to comply with the regulations and terms of an APO is a sanctionable violation.

This determination is issued and published in accordance with sections 751(a)(l) and 777(i)(l) of the Tariff Act of 1930, as amended, and 19 CFR 351.213(d)(4).

Dated: October 13, 2009.
John M. Andersen,
Acting Deputy Assistant Secretary for Antidumping and Countervailing Duty Operations.

[FR Doc. E9-25200 Filed 10-19-09; 8:45 am]

BILLING CODE 3510-DS-S